Proclamation 7948 of October 14, 2005

National Forest Products Week, 2005

By the President of the United States of America

A Proclamation

America's forests are a source of pride, and they provide crucial products and materials for our citizens and communities. As we celebrate National Forest Products Week, we recognize the importance of our forests to our economy and way of life, and we reaffirm our commitment to protecting them through wise stewardship and sensible land management.

Across our Nation, people and businesses use forest products to meet their daily needs. Forests provide paper for books and newspapers, lumber for homes and buildings, and materials for countless other items. As good citizens, we have a shared responsibility to cultivate and sustain our forests and minimize the risk of catastrophic fires that harm people, property, and the environment.

My Administration has made good forest stewardship a priority. Through the Healthy Forests Initiative, we are reducing the frequency and severity of wildfires by thinning out and removing forest undergrowth before disaster strikes. The commonsense management practices we are implementing are helping to strengthen our economy, keep communities safe, save the lives of firefighters, and protect threatened and endangered habitats and wildlife.

Sound conservation policies and responsible maintenance provide improved protection for our forests and greater economic prosperity for our citizens. During National Forest Products Week, we renew our commitment to sustain America's forests.

Recognizing the importance of our forests, the Congress, by Public Law 86-753 (36 U.S.C. 123), as amended, has designated the week beginning on the third Sunday in October of each year as “National Forest Products Week” and has authorized and requested the President to issue a proclamation in observance of this week.

NOW, THEREFORE, I, GEORGE W. BUSH, President of the United States of America, do hereby proclaim October 16 through October 22, 2005, as National Forest Products Week. I call upon all Americans to observe this week with appropriate ceremonies and activities.

IN WITNESS WHEREOF, I have hereunto set my hand this fourteenth day of October, in the year of our Lord two thousand five, and of the Independence of the United States of America the two hundred and thirtieth.

B

[FR Doc. 05-21030

Filed 10-18-05; 8:45 am]

Billing code 3195-01-P